DEPARTMENT OF DEFENSE

Defense Acquisition Regulations System

[Docket Number DARS-2014-0030]

Submission for OMB Review; Comment Request

AGENCY: Defense Acquisition Regulations System, Department of Defense (DoD).

ACTION: Notice.

SUMMARY: The Defense Acquisition Regulations System has submitted to OMB for clearance, the following proposal for collection of information under the provisions of the Paperwork Reduction Act (44 U.S.C. chapter 35).

DATES: Consideration will be given to all comments received by November 7, 2014.

SUPPLEMENTARY INFORMATION: Title, Associated Form, and OMB Number: Defense Federal Acquisition Regulation Supplement (DFARS) Appendix F, Material Inspection and Receiving Report; DD Form 250, DD Form 250c, DD Form 250-1; OMB Control Number 0704-0248.

Type of Request: Extension.

Number of Respondents: 92,500.

Responses per Respondent: 25.

Annual Responses: 2,352,941.

Average Burden per Response: 5 minutes.

Annual Burden Hours: 209,804.

Needs and Uses: This requirement provides for the collection of information related to material inspection and acceptance, shipping, and payment requests under Government contracts. DFARS 252.246-7000, Material Inspection and Receiving Report, is used in contracts that require separate and distinct deliverables and requires the contractor to prepare and furnish to the Government a material inspection and receiving report in a manner and to the extent required by DFARS Appendix F, primarily using Wide Area WorkFlow (WAWF) and the electronic WAWF Receiving Report. This information is used to process reports of inspection and receipt of materials, quality assurance, shipping, and contractor payment requests.

Affected Public: Businesses or other for-profit entities and not-for-profit institutions.

Frequency: On occasion.

OMB Desk Officer: Ms. Jasmeet Seehra.

Written comments and recommendations on the proposed information collection should be sent to Ms. Seehra at the Office of Management and Budget, Desk Officer for DoD, Room 10236, New Executive Office Building, Washington, DC 20503.

You may also submit comments, identified by docket number and title, by the following method:

Federal eRulemaking Portal: http://www.regulations.gov. Follow the instructions for submitting comments.

Instructions: All submissions received must include the agency name, docket number, and title for the Federal Register document. The general policy for comments and other public submissions from members of the public is to make these submissions available for public viewing on the internet at http://www.regulations.gov as they are received without change, including any personal identifiers or contact information provided. To confirm receipt of your comment(s), please check http://www.regulations.gov approximately two to three days after submission to verify posting (except allow 30 days for posting of comments submitted by mail).

DoD Clearance Officer: Mr. Frederick C. Licari.

Written requests for copies of the information collection proposal should be sent to Mr. Licari at: Publication Collections Program, WHS/ESD Information Management Division, 4800 Mark Center Drive, 2nd Floor, East Tower, Suite 02G09, Alexandria, VA 22350-3100.

Manuel Quinones,
Editor, Defense Acquisition Regulations System.

[FR Doc. 2014-24016 Filed 10-7-14; 8:45 am]

BILLING CODE 5001-06-P